ENVIRONMENTAL PROTECTION AGENCY

[OPP-2002-0050; FRL-6836-8]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period January 1, 2002 to March 31, 2002 to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you petition EPA for authorization under section 18 of FIFRA to use pesticide products which are otherwise unavailable for a given use. Potentially affected categories and entities may include, but are not limited to:

Categories | NAICS codes | Examples of potentially affected entities
Federal Government | 9241 | Federal agencies that petition EPA for section 18 pesticide use authorization
State and Territorial government agencies charged with pesticide authority | 9241 | State agencies that petition EPA for section 18 pesticide use authorization

This listing is not intended to be exhaustive, but rather provides a guide for readers regarding entities likely to be regulated by this action. Other types of entities not listed in the table in this unit could also be regulated. The North American Industrial Classification System (NAICS) codes have been provided to assist you and others in determining whether or not this action applies to certain entities. To determine whether you or your business is affected by this action, you should carefully examine the applicability provisions in 40 CFR part 166. If you have any questions regarding the applicability of this action to a particular entity, consult the person listed under FOR FURTHER INFORMATION CONTACT.

B. How Can I Get Additional Information or Copies of this Document or Other Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-2002-0050. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Alabama

Department of Agriculture and Industries

Denial: On February 20, 2002, EPA denied the use of norflurazon on bermudagrass meadows to control annual grassy weeds. This request was denied because a registered alternative is now available; a significant economic loss has not been demonstrated to occur if an additional pesticide is not made available; EPA can no longer determine that reasonable progress toward registration is being made; EPA is unable to reach a “reasonable certainty of no harm” finding regarding human health effects which may result if the pesticide use were to occur; and EPA is unable to conclude that use of this product would not result in unacceptable adverse effects to the environment and ground water resources.Contact: (Libby Pemberton).

Specific: EPA authorized the use of coumaphos in beehives to control varroa mites and small hive beetles; March 22, 2002 to February 1, 2003. Contact: (Barbara Madden)

EPA authorized the use of diuron on commercial catfish ponds to control blue-green algae; June 1, 2002 to November 30, 2002. Contact: (Dan Rosenblatt)

Arkansas

State Plant Board

Specific: EPA authorized the use of coumaphos in beehives to control varroa mites and small hive beetles; February 20, 2002 to February 1, 2003. Contact: (Barbara Madden)

EPA authorized the use of fenbuconazole on blueberries to control mummy berry disease; March 7, 2002 to July 31, 2002. Contact: (Dan Rosenblatt)

California

Environmental Protection Agency, Department of Pesticide Regulation

Specific: EPA authorized the use of coumaphos in beehives to control varroa mites and small hive beetles; February 6, 2002 to February 1, 2003. Contact: (Barbara Madden)

EPA authorized the use of s-metolachlor on tomato to control weeds; March 12, 2002 to July 31, 2002. Contact: (Andrew Ertman)

EPA authorized the use of tebufenozide on wine grapes to control grape leaffolder (Desmia funeralis (Hubner)) and Omnivorous leafroller (Platynota stultana (Walshingham)); April 1, 2002 to October 31, 2002. Contact: (Barbara Madden)

EPA authorized the use of fludioxonil on stone fruit to control brown rot, gray mold and rhizopus rot; May 1, 2002 to November 1, 2002. Contact: (Andrew Ertman)

Colorado

Department of Agriculture

Specific: EPA authorized the use of coumaphos in beehives to control varroa mites and small hive beetles; February 26, 2002 to February 1, 2003. Contact: (Barbara Madden)

EPA authorized the use of difenoconazole on sweet corn seed to control fungal pathogens; February 28, 2002 to February 28, 2003. Contact: (Andrea Conrath)

EPA authorized the use of s-metolachlor on spinach to control pigweed; March 19, 2002 to September 30, 2002. Contact: (Andrew Ertman)

EPA authorized the use of sulfentrazone on sunflowers to control broadleaf weeds; April 1, 2002 to July 1, 2002. Contact: (Andrew Ertman)

Connecticut

Department of Environmental Protection

Specific: EPA authorized the use of coumaphos in beehives to control varroa mites and small hive beetles; February 6, 2002 to February 1, 2003. Contact: (Barbara Madden)

EPA authorized the use of propiconazole on blueberries to control mummy berry disease; March 19, 2002 to June 15, 2002. Contact: (Dan Rosenblatt)

EPA authorized the use of imidacloprid on strawberries to control root feeding beetles; July 1, 2002 to August 7, 2002. Contact: (Andrew Ertman)

Delaware

Department of Agriculture

Denial: On February 14, 2002, EPA denied the use of chloropropham on spinach to control weeds. This request was denied because no progress towards registration has been made and based upon information available to the Agency no progress towards registration will be made for this use. Contact: (Barbara Madden).

Specific: EPA authorized the use of coumaphos in beehives to control varroa mites and small hive beetles; March 4, 2002 to February 1, 2003. Contact: (Barbara Madden)

EPA authorized the use of terbacil on watermelons to control broadleaf weeds; March 27, 2002 to June 15, 2002. Contact: (Dan Rosenblatt)

EPA authorized the use of imidacloprid on stone fruit to control aphids; April 1, 2002 to October 15, 2002. Contact: (Andrew Ertman)

Florida

Department of Agriculture and Consumer Services

Specific: EPA authorized the use of pyriproxyfen on legume vegetables to control whiteflies; February 5, 2002 to February 5, 2003. Contact: (Andrea Conrath)

EPA authorized the use of thiophanate methyl on citrus to control Postbloom Fruit Drop; February 22, 2002 to February 22, 2003. Contact: (Andrea Conrath)

EPA authorized the use of fenbuconazole on grapefruit to control greasy spot; March 1, 2002 to November 1, 2002. Contact: (Dan Rosenblatt)

EPA authorized the use of tebufenozide on lychee and longan to control Lychee webworm; March 3, 2002 to March 2, 2003. Contact: (Barbara Madden)

Georgia

Department of Agriculture

Specific: EPA authorized the use of fludioxonil on stone fruit to control brown rot; April 15, 2002 to September 1, 2002. Contact: (Andrew Ertman)

Idaho

Department of Agriculture

Specific: EPA authorized the use of coumaphos in beehives to control varroa mites and small hive beetles; February 2, 2002 to February 1, 2003. Contact: (Barbara Madden)

EPA authorized the use of fosetyl-Al on pea seed to control downy mildew; February 4, 2002 to June 30, 2002. Contact: (Andrew Ertman)

EPA authorized the use of oxytetracycline on apples to control fire blight; March 8, 2002 to August 1, 2002. Contact: (Andrea Conrath)

EPA authorized the use of carfentrazone-ethyl on hops to control hop suckers to indirectly control powdery mildew; March 22, 2002 to September 22, 2002. Contact: (Barbara Madden)

EPA authorized the use of myclobutanil on hops to control powdery mildew; March 22, 2002 to September 22, 2002. Contact: (Barbara Madden)

Illinois

Department of Agriculture

Specific: EPA authorized the use of coumaphos in beehives to control varroa mites and small hive beetles; February 2, 2002 to February 1, 2003. Contact: (Barbara Madden)

EPA authorized the use of dimethomorph on squash, cantaloupes, watermelons, cucumbers, and pumpkins to control crown rot,phytophthora capsici; March 19, 2002 to September 30, 2002. Contact: (Libby Pemberton)

Indiana

Office of Indiana State Chemist

Specific: EPA authorized the use of coumaphos in beehives to control varroa mites and small hive beetles; February 15, 2002 to February 1, 2003. Contact: (Barbara Madden)

EPA authorized the use of fenbuconazole on blueberries to control mummy berry disease; March 7, 2002 to July 31, 2002. Contact: (Dan Rosenblatt)

Iowa

Department of Agriculture and Land Stewardship

Specific: EPA authorized the use of coumaphos in beehives to control varroa mites and small hive beetles; March 4, 2002 to February 1, 2003. Contact: (Barbara Madden)

Kansas

Department of Agriculture

Specific: EPA authorized the use of coumaphos in beehives to control varroamites and small hive beetles; February 6, 2002 to February 1, 2003. Contact: (Barbara Madden)

EPA authorized the use of fluroxypyr on range and grass pastures to control sericea lespedeza (Lespedeza cuneata); March 4, 2002 to August 31, 2002. Contact: (Dan Rosenblatt)

EPA authorized the use of sulfentrazone on sunflowers to control kochia and weeds; April 15, 2002 to July 1, 2002. Contact: (Andrew Ertman)

EPA authorized the use of tebuconazole on sunflowers to control rust (Puccinia helianthi); June 1, 2002 to September 15, 2002. Contact: (Dan Rosenblatt)

Kentucky

Department of Agriculture

Specific: EPA authorized the use of coumaphos in beehives to control varroa mites and small hive beetles; February 2, 2002 to February 1, 2003. Contact: (Barbara Madden)

Louisiana

Department of Agriculture and Forestry

Specific: EPA authorized the use of coumaphos in beehives to control varroa mites and small hive beetles; February 15, 2002 to February 1, 2003. Contact: (Barbara Madden)

EPA authorized the use of 3-chloro-p-touidine hydrochloride on fallow areas to control various birds, including red-winged blackbirds; February 15, 2002 to October 15, 2002. Contact: (Libby Pemberton)

EPA authorized the use of thiophanate methyl on citrus to control Postbloom Fruit Drop; February 22, 2002 to February 22, 2003. Contact: (Andrea Conrath)

EPA authorized the use of coumaphos in beehives to controlvarroa mites and small hive beetles; March 28, 2002 to August 31, 2002. Contact: (Barbara Madden)

Maine

Department of Agriculture, Food, and Rural Resources

Specific: EPA authorized the use of coumaphos in beehives to control varroa mites and small hive beetles; March 4, 2002 to February 1, 2003. Contact: (Barbara Madden)

EPA authorized the use of propiconazole on blueberries to control mummy berry disease; April 15, 2002 to June 15, 2002. Contact: (Dan Rosenblatt)

Maryland

Department of Agriculture

Specific: EPA authorized the use of coumaphos in beehives to control varroa mites and small hive beetles; February 2, 2002 to February 1, 2003. Contact: (Barbara Madden)

EPA authorized the use of dimethomorph on squash, cantaloupes, watermelons, cucumbers, and pumpkins to control crown rot,phytophthora capsici; March 19, 2002 to September 30, 2002. Contact: (Libby Pemberton)

EPA authorized the use of imidacloprid on stone fruit to control aphids; April 1, 2002 to November 30, 2002. Contact: (Andrew Ertman)

EPA authorized the use of s-metolachlor on tomatoes to control eastern black nightshade and yellow nutsedge; April 10, 2002 to July 31, 2002. Contact: (Andrew Ertman)

Massachusetts

Massachusetts Department of Food and Agriculture

EPA authorized the use of clopyralid on cranberries to control various weeds; February 1, 2002 to December 31, 2002. Contact: (Libby Pemberton)

Specific: EPA authorized the use of coumaphos in beehives to control varroa mites and small hive beetles; February 2, 2002 to February 1, 2003. Contact: (Barbara Madden)

EPA authorized the use of pronamide on cranberries to control dodder; March 20, 2002 to June 15, 2002. Contact: (Andrew Ertman)

Michigan

Michigan Department of Agriculture

Specific: EPA authorized the use of oxytetracycline on apples to control fire blight; March 8, 2002 to June 30, 2002. Contact: (Andrea Conrath)

EPA authorized the use of coumaphos in beehives to controlvarroa mites and small hive beetles; March 28, 2002 to February 1, 2003. Contact: (Barbara Madden)

EPA authorized the use of s-metolachlor on tomatoes to control eastern black nightshade; April 1, 2002 to July 1, 2002. Contact: (Andrew Ertman)

EPA authorized the use of fenbuconazole on blueberries to control mummy berry disease; April 1, 2002 to September 1, 2002. Contact: (Dan Rosenblatt)

EPA authorized the use of halosulfuron-methyl on asparagus to control yellow nutsedge and pigweed; May 1, 2002 to August 15, 2002. Contact: (Andrew Ertman)

Minnesota

Department of Agriculture

EPA authorized the use of 2,4-D on wild rice to control common waterplantain; February 5, 2002 to July 31, 2002. Contact: (Andrew Ertman)

EPA authorized the use of tetraconazole on sugar beets to control Cercospora leafspot; March 7, 2002 to September 30, 2002. Contact: (Andrea Conrath)

EPA authorized the use of sulfentrazone on chickpeas and field peas to control wild buckwheat; April 1, 2002 to June 30, 2002. Contact: (Andrew Ertman)

EPA authorized the use of sulfentrazone on sunflowers to control kochia; April 15, 2002 to June 30, 2002. Contact: (Andrew Ertman)

EPA authorized the use of clopyralid on canola to control Canada thistle and perennial sowthistle; May 1, 2002 to July 31, 2002. Contact: (Libby Pemberton)

Specific: EPA authorized the use of tebuconazole on barley to control Fusarium head blight; May 15, 2002 to September 1, 2002. Contact: (Dan Rosenblatt)

EPA authorized the use of tebuconazole on wheat to controlFusarium head blight; May 15, 2002 to September 1, 2002. Contact: (Dan Rosenblatt)

Mississippi

Department of Agriculture and Commerce

Denial: On February 14, 2002, EPA denied the use of glufosinate-ammonium on blueberries to control broadleaf and grass weeds. This request was denied because the situation was determined to be routine and not urgent because adequate alternatives are available and no change in the weed control situation has been demonstrated. Contact: (Libby Pemberton).

Specific: EPA authorized the use of fenbuconazole on blueberries to control mummy berry disease; February 4, 2002 to August 31, 2002. Contact: (Dan Rosenblatt)

EPA authorized the use of diuron on commercial catfish ponds to control blue-green algae; April 1, 2002 to November 30, 2002. Contact: (Dan Rosenblatt)

Missouri

Department of Agriculture

Specific: EPA authorized the use of coumaphos in beehives to control varroa mites and small hive beetles; February 26, 2002 to February 1, 2003. Contact: (Barbara Madden)

EPA authorized the use of sulfentrazone on sunflowers to control water hemp and morning glory; April 1, 2002 to July 31, 2002. Contact: (Andrew Ertman)

Montana

Department of Agriculture

Specific: EPA authorized the use of coumaphos in beehives to control varroa mites and small hive beetles; February 15, 2002 to February 1, 2003. Contact: (Barbara Madden)

EPA authorized the use of tetraconazole on sugar beets to control Cercospora leafspot; March 7, 2002 to September 30, 2002. Contact: (Andrea Conrath)

EPA authorized the use of sulfentrazone on sunflowers to control kochia;April 15, 2002 to June 30, 2002. Contact: (Andrew Ertman)

EPA authorized the use of dimethenamid on sugar beets to control nightshade, redroot pigweed; May 2, 2002 to July 31, 2002. Contact: (Barbara Madden)

Nebraska

Department of Agriculture

Specific: EPA authorized the use of coumaphos in beehives to control varroa mites and small hive beetles; February 6, 2002 to February 1, 2003. Contact: (Barbara Madden)

EPA authorized the use of sulfentrazone on sunflowers to control broadleaf weeds; April 15, 2002 to June 30, 2002. Contact: (Andrew Ertman)

Nevada

Department of Agriculture

Specific: EPA authorized the use of coumaphos in beehives to control varroa mites and small hive beetles; March 22, 2002 to February 1, 2003. Contact: (Barbara Madden)

New Jersey

Department of Environmental Protection

Specific: EPA authorized the use of coumaphos in beehives to control varroa mites and small hive beetles; February 6, 2002 to February 1, 2003. Contact: (Barbara Madden)

EPA authorized the use of propiconazole on blueberries to control mummy berry disease; March 15, 2002 to June 30, 2002. Contact: (Meredith Laws)

EPA authorized the use of imidacloprid on stone fruit to control aphids; April 1, 2002 to November 30, 2002. Contact: (Andrew Ertman)

New Mexico

Department of Agriculture

Specific: EPA authorized the use of metsulfuron-methyl on sorghum to control pigweed; June 1, 2002 to September 30, 2002. Contact: (Andrew Ertman)

New York

Department of Environmental Conservation

Specific: EPA authorized the use of coumaphos in beehives to control varroa mites and small hive beetles; February 2, 2002 to February 1, 2003. Contact: (Barbara Madden)

EPA authorized the use of dimethomorph on squash, cantaloupes, watermelons, cucumbers, and pumpkins to control Phytophthora capsici; March 28, 2002 to September 30, 2002. Contact: (Libby Pemberton)

EPA authorized the use of dimethenamid on dry bulb onions to control yellow nutsedge and other broadleaf weeds; May 1, 2002 to July 30, 2002. Contact: (Barbara Madden)

EPA authorized the use of desmedipham on red (table) beets to control broadleaf weeds; May 15, 2002 to August 15, 2002. Contact: (Dan Rosenblatt)

EPA authorized the use of imidacloprid on stone fruit to control aphids; March 22, 2002 to October 15, 2002. Contact: (Andrew Ertman)

North Carolina

Department of Agriculture

Specific: EPA authorized the use of coumaphos in beehives to control varroa mites and small hive beetles; February 6, 2002 to February 1, 2003. Contact: (Barbara Madden)

EPA authorized the use of fenbuconazole on blueberries to control mummy berry disease; March 7, 2002 to July 31, 2002. Contact: (Dan Rosenblatt)

North Dakota

Department of Agriculture

Specific: EPA authorized the use of coumaphos in beehives to control varroa mites and small hive beetles; February 6, 2002 to February 1, 2003. Contact: (Barbara Madden)

EPA authorized the use of tetraconazole on sugar beets to controlCercospora leafspot; March 7, 2002 to September 30, 2002. Contact: (Andrea Conrath)

EPA authorized the use of sulfentrazone on sunflowers to control kochia; April 15, 2002 to June 30, 2002. Contact: (Andrew Ertman)

EPA authorized the use of clopyralid on canola to control Canada thistle and perennial sowthistle; May 1 to July 31, 2002. Contact: (Libby Pemberton)

EPA authorized the use of tebuconazole on sunflowers to control rust (Puccinia helianthia; July 5, 2002 to September 5, 2002. Contact: (Dan Rosenblatt)

Ohio

Department of Agriculture

Specific: EPA authorized the use of coumaphos in beehives to control varroa mites and small hive beetles; February 6, 2002 to February 1, 2003. Contact: (Barbara Madden)

EPA authorized the use of sulfentrazone on strawberries to control broadleaf weeds; June 20, 2002 to December 15, 2002. Contact: (Barbara Madden)

Oklahoma

Department of Agriculture

Specific: EPA authorized the use of sulfentrazone on sunflowers to control broadleaf weeds; April 15, 2002 to July 15, 2002. Contact: (Andrew Ertman)

EPA authorized the use of metsulfuron-methyl on sorghum to control pigweed; June 15,2002 to August 15, 2002. Contact: (Andrew Ertman)

EPA authorized the use of s-metolachlor on spinach to control weeds; August 15, 2002 to March 31, 2003. Contact: (Andrew Ertman)

Oregon

Department of Agriculture

Denial: On February 26, 2002 EPA denied the use of tebuconazole on hazelnuts to control eastern filbert blight. This request was denied because an exemption was issued for a different material, triflumizole, to address this situation, and the request for an exemption for a second material was not justified. Additionally, the Agency is currently reviewing recent data regarding the triazole group of pesticides, of which tebuconazole is a member; because of recently discovered toxicity concerns, the Agency is not considering any new uses of triazoles until the review of this data is completed and a conclusion is reached. Contact: (Andrea Conrath).

Specific: EPA authorized the use of coumaphos in beehives to control varroa mites and small hive beetles; February 2, 2002 to February 1, 2003. Contact: (Barbara Madden)

EPA authorized the use of ethoprop on baby and idle hops only to control garden symphylans (Scutigerella immaculatta); February 6, 2002 to May 31, 2002. Contact: (Libby Pemberton)

EPA authorized the use of fenbuconazole on blueberries to control mummy berry disease; February 12, 2002 to May 31, 2002. Contact: (Dan Rosenblatt)

EPA authorized the use of triflumizole on hazelnuts to control eastern filbert blight; February 26, 2002 to May 30, 2002. Contact: (Andrea Conrath)

EPA authorized the use of oxytetracycline on apples to control fire blight; March 8, 2002 to August 1, 2002. Contact: (Andrea Conrath)

EPA authorized the use of sulfentrazone on strawberries to control broadleaf weeds; March 15, 2002 to February 28, 2003. Contact: (Barbara Madden)

EPA authorized the use of carfentrazone-ethyl on hops to control hop suckers to indirectly control powdery mildew; March 22, 2002 to September 22, 2002. Contact: (Barbara Madden)

EPA authorized the use of myclobutanil on hops to control powdery mildew; March 22, 2002 to September 22, 2002. Contact: (Barbara Madden)

Pennsylvania

Department of Agriculture

Specific: EPA authorized the use of coumaphos in beehives to control varroa mites and small hive beetles; February 15, 2002 to February 1, 2003. Contact: (Barbara Madden)

EPA authorized the use of imidacloprid on stone fruit to control aphids; April 15, 2002 to October 15, 2002. Contact: (Andrew Ertman)

EPA authorized the use of metolachlor on tomatoes to control eastern black nightshade, puslane, common lambsquarters, and hairy nightshade; April 15, 2002 to July 15, 2002. Contact: (Andrew Ertman)

EPA authorized the use of s-metolachlor on spinach to control weeds; May 1, 2002 to August 30, 2002. Contact: (Andrew Ertman)

Rhode Island

Department of Environmental Management

Specific: EPA authorized the use of clopyralid on cranberries to control various weeds; February 1, 2002 to December 31, 2002. Contact: (Libby Pemberton)

EPA authorized the use of pronamide on cranberries to control dodder; March 20, 2002 to June 15, 2002. Contact: (Andrew Ertman)

South Carolina

Clemson University

Specific: EPA authorized the use of fenbuconazole on blueberries to control mummy berry disease; February 4, 2002 to August 31, 2002. Contact: (Dan Rosenblatt)

EPA authorized the use of coumaphos in beehives to controlvarroa mites and small hive beetles; February 6, 2002 to February 1, 2003. Contact: (Barbara Madden)

South Dakota

Department of Agriculture

Specific: EPA authorized the use of coumaphos in beehives to control varroa mites and small hive beetles; February 2, 2002 to February 1, 2003. Contact: (Barbara Madden)

EPA authorized the use of sulfentrazone on sunflowers to control kochia; April 15, 2002 to June 30, 2002. Contact: (Andrew Ertman)

Tennessee

Department of Agriculture

Specific: EPA authorized the use of coumaphos in beehives to control varroa mites and small hive beetles; February 6, 2002 to February 1, 2003. Contact: (Barbara Madden)

Texas

Department of Agriculture

Specific: EPA authorized the use of metsulfuron-methyl on sorghum to control triazine-resistant pigweed; February 1, 2002 to August 1, 2002. Contact: (Andrew Ertman)

EPA authorized the use of carbofuran on cotton to control cotton aphid; March 15, 2002 to October 31, 2002. Contact: (Meredith Laws)

EPA authorized the use of sulfentrazone on sunflowers to control weeds; March 20, 2002 to June 30, 2002. Contact: (Andrew Ertman)

EPA authorized the use of s-metolachlor on spinach to control weeds; June 29, 2002 to June 29, 2003. Contact: (Andrew Ertman)

Utah

Department of Agriculture

Specific: EPA authorized the use of coumaphos in beehives to control varroa mites and small hive beetles; February 2, 2002 to February 1, 2003. Contact: (Barbara Madden)

EPA authorized the use of oxytetracycline on apples to control fire blight; March 8, 2002 to August 1, 2002. Contact: (Andrea Conrath)

Vermont

Department of Agriculture

Specific: EPA authorized the use of coumaphos in beehives to control varroa mites and small hive beetles; February 2, 2002 to February 1, 2003. Contact: (Barbara Madden)

Virginia

Department of Agriculture and Consumer Services

Specific: EPA authorized the use of s-metolachlor on tomatoes to control eastern black nightshade and yellow nutsedge; March 12, 2002 to August 10, 2002. Contact: (Andrew Ertman)

Washington

Department of Agriculture

Specific: EPA authorized the use of coumaphos in beehives to control varroa mites and small hive beetles; February 2, 2002 to February 1, 2003. Contact: (Barbara Madden)

EPA authorized the use of fosetyl-Al on pea seed to control downy mildew; February 4, 2002 to June 30, 2002. Contact: (Andrew Ertman)

EPA authorized the use of oxytetracycline on apples to control fire blight; March 8, 2002 to August 1, 2002. Contact: (Andrea Conrath)

EPA authorized the use of sulfentrazone on strawberries to control broadleaf weeds; March 15, 2002 to February 28, 2003. Contact: (Barbara Madden)

EPA authorized the use of propiconazole on blueberries to control mummy berry disease; March 19, 2002 to June 15, 2002. Contact: (Dan Rosenblatt)

EPA authorized the use of carfentrazone-ethyl on hops to control hop suckers to indirectly control powdery mildew; March 22, 2002 to September 22, 2002. Contact: (Barbara Madden)

EPA authorized the use of myclobutanil on hops to control powdery mildew; March 22, 2002 to September 22, 2002. Contact: (Barbara Madden)

Wisconsin

Department of Agriculture, Trade, and Consumer Protection

Specific: EPA authorized the use of clopyralid on cranberries to control wild bean, narrow-leaved goldenrod, asters, Joe-Pye weed, ragweed, itchfork or Devil's beggar-tick, smartweed, and clover; January 26, 2002 to December 31, 2002. Contact: (Libby Pemberton)

EPA authorized the use of coumaphos in beehives to controlvarroa mites and small hive beetles; February 2, 2002 to February 1, 2003. Contact: (Barbara Madden)

EPA authorized the use of dimethenamid on dry bulb onions to control yellow nutsedge and broadleaf weeds; April 1, 2002 to July 31, 2002. Contact: (Barbara Madden)

EPA authorized the use of propiconazole on cranberries to control cottonball disease; April 15, 2002 to July 31, 2002. Contact: (Dan Rosenblatt)

Wyoming

Department of Agriculture

Specific: EPA authorized the use of coumaphos in beehives to control varroa mites and small hive beetles; February 2, 2002 to February 1, 2003. Contact: (Barbara Madden)

EPA authorized the use of tetraconazole on sugar beets to controlCercospora leafspot; March 7, 2002 to September 30, 2002. Contact: (Andrea Conrath)

EPA authorized the use of sulfentrazone on sunflowers to control kochia; April 15, 2002 to June 30, 2002. Contact: (Andrew Ertman)

EPA authorized the use of dimethenamid on sugar beets to control nightshade, redroot pigweed and ALS-resistant kochia; May 2, 2002 to July 31, 2002. Contact: (Barbara Madden)

B. Federal Departments and Agencies

Environmental Protection Agency

Office of Solid Waste and Emergency Response

Crisis: On January 2, 2002, for the use of ethylene oxide to determine the efficacy of the ethylene oxide sterilization cycles to decontaminate standard letter mail contaminated or potentially contaminated by Bacillus anthracis. This program is expected to end on January 17, 2002. Contact: (Barbara Madden)

On January 30, 2002, for the use of paraformaldehyde to decontaminate a 9,700 square foot area of the Department of Justice Mailroom located at 36001 Pensy Drive, Landover, Maryland as well as machinery and equipment contaminated or potentially contaminated by Bacillus anthracis. This program is expected to end on February 14, 2002. Contact: (Barbara Madden)

List of Subjects

Environmental protection, Pesticides and pest.

Dated: May 3, 2002.
Peter Caulkins,
Acting Director, Registration Division, Office of Pesticide Programs.

FR Doc. 02-12848 Filed 5-21-02; 8:45 am

BILLING CODE 6560-50-S